DEPARTMENT OF ENERGY

Federal Energy Regulatory Commission

[Project No. 13272-004-AK]

Alaska Village Electric Cooperative, Inc.; Notice of Availability of Final Environmental Assessment

In accordance with the National Environmental Policy Act of 1969, Title XI of the Alaska National Interest Lands Conservation Act, and the Federal Energy Regulatory Commission's (Commission) regulations, 18 CFR part 380 (Order No. 486, 52 FR 47,897), the Office of Energy Projects has reviewed the application for an original license to construct the Old Harbor Hydroelectric Project, and has prepared a final environmental assessment (EA) with the cooperation of the U.S. Fish and Wildlife Service (FWS).

The proposed 525 kilowatt (kW) project would be constructed on the East Fork of Mountain Creek and transfer water into a powerhouse on the Lagoon Creek Tributary, near the town of Old Harbor, Kodiak Island Borough, Alaska. The project intake and a portion of the penstock would be located on approximately 7.74 acres of federal land that is part of the Kodiak National Wildlife Refuge and approximately 3.24 acres of Old Harbor Native Corporation land that is subject to a conservation easement administered by the FWS and the State of Alaska.

The final EA contains Commission staff's analysis and response to comments filed on the draft EA issued on May 7, 2015. The FWS staff reviewed the analysis of the potential environmental impacts of the proposed hydroelectric project. The final EA concludes that licensing the project, with appropriate environmental protective measures, would not constitute a major federal action that would significantly affect the quality of the human environment.

A copy of the final EA is available for review at the Commission in the Public Reference Room or may be viewed on the Commission's Web site at www.ferc.gov using the “eLibrary” link. Enter the docket number excluding the last three digits in the docket number field to access the document. For assistance, contact FERC Online Support at FERCOnlineSupport@ferc.gov or toll-free at 1-866-208-3676, or for TTY, 202-502-8659.

You may also register online at www.ferc.gov/docs-filing/esubscription.asp to be notified via email of new filings and issuances related to this or other pending projects. For assistance, contact FERC Online Support.

Please contact Adam Beeco (Commission Staff) by telephone at (202) 502-8655, or by email at adam.beeco@ferc.gov, if you have any questions concerning the hydroelectric licensing process or contact Diana Biesanz (FWS Staff) by telephone at (907) 786-3426 or by email at diana_biesanz@fws.gov, if you have questions concerning the right-of-way permit.

Dated: October 28, 2015.
Kimberly D. Bose,
Secretary.

[FR Doc. 2015-28089 Filed 11-3-15; 8:45 am]

BILLING CODE 6717-01-P